DEPARTMENT OF THE INTERIOR

Bureau of Land Management

[MT-090-1430-ET; MTM 60957]

Public Land Order No. 7690; Extension of Public Land Order No. 6664; Montana

AGENCY: Bureau of Land Management, Interior.

ACTION: Public Land Order.

SUMMARY: This order extends the withdrawal created by Public Land Order No. 6664 for an additional 20-year period. This extension is necessary to continue protection of the Bureau of Land Management Petroglyph Canyon and Weatherman Draw Archeological Sites in Carbon County, Montana.

DATES: Effective Date: March 7, 2008.

FOR FURTHER INFORMATION CONTACT: Tom Carroll, BLM, Billings Field Office, 5001 Southgate Drive, Billings, Montana 59101-4669, (406) 896-5242, or Sandra Ward, BLM, Montana State Office, 5001 Southgate Drive, Billings, Montana 59101-4669, (406) 896-5052.

SUPPLEMENTARY INFORMATION: The withdrawal extended by this order will expire March 6, 2028, unless, as a result of a review conducted prior to the expiration date pursuant to section 204(f) of the Federal Land Policy and Management Act of 1976, 43 U.S.C. 1714(f) (2000), the Secretary determines that the withdrawal shall be further extended.

Order

By virtue of the authority vested in the Secretary of the Interior by section 204 of the Federal Land Policy and Management Act of 1976, 43 U.S.C. 1714 (2000), it is ordered as follows:

Public Land Order No. 6664 (53 FR 7186), which withdrew 840 acres of public lands from settlement, sale, location, or entry under the general land laws, including the United States mining laws to protect the Petroglyph Canyon and Weatherman Draw Archeological Sites, is hereby extended for an additional 20-year period until March 6, 2028.

Dated: February 29, 2008.
C. Stephen Allred,
Assistant Secretary, Land and Minerals Management.

[FR Doc. E8-4584 Filed 3-6-08; 8:45 am]

BILLING CODE 4310-$$-P